DEPARTMENT OF AGRICULTURE

Animal and Plant Health Inspection Service

[Docket No. APHIS-2008-0121]

Notice of Availability of Evaluations of the Highly Pathogenic Avian Influenza Subtype H5N1 Status of Germany and Poland

AGENCY: Animal and Plant Health Inspection Service, USDA.

ACTION: Notice of availability and request for comments.

SUMMARY: We are advising the public that the Animal and Plant Health Inspection Service has prepared evaluations of the animal health status of Germany and Poland relative to the H5N1 subtype of highly pathogenic avian influenza (HPAI). The evaluations present our evaluation of the HPAI H5N1 detection, control, and eradication measures in place in Germany and Poland during outbreaks of HPAI in 2006 and 2007, as well as our assessment of the present status of Germany and Poland with respect to HPAI subtype H5N1. We are making these evaluations available to the public for review and comment. If, after the close of the comment period, APHIS can identify no additional risk factors that would indicate that domestic poultry in Germany or Poland continue to be affected with HPAI H5N1, we would conclude that the importation of live birds, poultry carcasses, parts of carcasses, and eggs (other than hatching eggs) of poultry, game birds, or other birds from the affected regions of Germany and Poland presents a low risk of introducing HPAI H5N1 into the United States.

DATES: We will consider all comments we receive prior to February 2, 2009.

ADDRESSES: You may submit comments by either of the following methods:

• Federal eRulemaking Portal: Go to http://www.regulations.gov/fdmspublic/component/main?main=DocketDetail&d=APHIS=2008=0121 to submit or view comments and to view supporting and related materials available electronically.

• Postal Mail/Commercial Delivery: Please send two copies of your comment to Docket No. APHIS-2008-0121, Regulatory Analysis and Development, PPD, APHIS, Station 3A-03.8, 4700 River Road Unit 118, Riverdale, MD 20737-1238. Please state that your comment refers to Docket No. APHIS-2008-0121.

Reading Room: You may read any comments that we receive on the evaluations in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Mr. Javier Vargas, Animal Scientist, Regionalization Evaluation Services Staff, National Center for Import and Export, VS, APHIS, 4700 River Road Unit 38, Riverdale, MD 20737-1231; (301) 734-0756.

SUPPLEMENTARY INFORMATION:

Background

Under the Animal Health Protection Act (7 U.S.C. 8301 et seq.), the Animal and Plant Health Inspection Service (APHIS) has the authority to prohibit or restrict the importation into the United States of animals, animal products, and other articles in order to prevent the introduction of diseases and pests into the U.S. livestock and poultry populations.

Highly pathogenic avian influenza (HPAI) is a zoonotic disease of poultry. The H5N1 subtype of HPAI is an extremely infectious and fatal form of the disease. HPAI can strike poultry quickly without any warning signs of infection and, once established, can spread rapidly from flock to flock. HPAI viruses can also be spread by manure, equipment, vehicles, egg flats, crates, and people whose clothing or shoes have come in contact with the virus. HPAI viruses can remain viable at moderate temperatures for long periods in the environment and can survive indefinitely in frozen material. The H5N1 subtype of HPAI has been of particular concern because it has crossed the species barrier and caused disease in humans.

On April 6, 2006, the German Federal Ministry of Consumer Protection, Food, and Agriculture reported to the World Organization for Animal Health (OIE) an outbreak of HPAI H5N1 in domestic poultry in a turkey flock in the district of Muldental in the Federal State of Saxony. This was the only HPAI H5N1 outbreak to occur in domestic poultry in Germany during 2006.

In 2007, Germany reported six outbreaks of HPAI H5N1 in domestic poultry, four in small hobby farms and two outbreaks on large duck farms with 170,000 ducks on each farm. No additional reports of HPAI H5N1 in Germany in either domestic poultry or wild birds were made until October 9, 2008, when a small outbreak occurred in the district of Görlitz in the Federal State of Saxony following the identification of HPAI H5N1 in a wild bird on a nearby lake.

To prevent the introduction of HPAI H5N1 into the United States, APHIS designated Germany's districts of Muldental, Torgue-Oschatz, Dobeln, Saalfeld-Rudolstadt, Schwandorf, Neustradt A.D. Aisch, Bamberg, Kitzingen, Erlangen-Hochstadt, Oberhavel, Havelland, Ostprignitz-Ruppin, Potsdam-Mittlemark, Uckermark, Mecklenburg-Strelitz, Prignitz, Jerichower Land, Gorlitz, and Bautzen as regions where HPAI was considered to exist and prohibited the importation of birds, poultry, and poultry products from these regions into the United States.

In a document titled “APHIS' Evaluation of the Status of High Pathogenicity Avian Influenza H5N1 (HPAI H5N1) in Germany” (October 2008), we present the results of our evaluation of the status of HPAI H5N1 in domestic poultry in Germany in light of the actions taken by German authorities since the outbreaks, and document our analysis of the risk associated with allowing the importation of birds, poultry, and poultry products from regions of Germany into the United States in the aftermath of the outbreaks.

On December 1, 2007, Poland's General Veterinary Inspectorate reported an HPAI H5N1 outbreak in domestic poultry. This first outbreak was detected in broiler turkeys, and between December 1 and December 22, 2007, Poland reported a total of 10 outbreaks to the OIE.

To prevent the introduction of HPAI H5N1 into the United States, APHIS designated Poland's provinces of Warminsko-Mazurskie, Mazowiekie, and Kujawsko-Pomorskie as regions where HPAI was considered to exist, and prohibited the importation of birds, poultry, and poultry products from these provinces into the United States.

In a document titled “APHIS' Evaluation of the Status of High Pathogenicity Avian Influenza H5N1 Virus in Poland” (October 2008), we present the results of our evaluation of the status of HPAI H5N1 in domestic poultry in Poland in light of the actions taken by Polish authorities since the outbreaks, and document our analysis of the risk associated with allowing importation of birds, poultry, and poultry products from Poland into the United States in the aftermath of the outbreaks.

We based our evaluation of Germany's and Poland's HPAI H5N1 status on the following critical factors:

• Each region had been free of outbreaks of the H5N1 subtype in its domestic poultry for at least 3 months as a result of effective control measures taken by a competent veterinary infrastructure;

• HPAI H5N1 was a notifiable disease in each region at the time of the outbreak;

• Each region had an ongoing disease awareness program in place at the time of the outbreak;

• Each region investigated notified or suspected occurrences of the disease;

• Each region had an effective surveillance program in place that supported the detection and investigation of outbreaks;

• Diagnostic and laboratory capabilities within each region were both adequate and effective;

• Each region undertook appropriate eradication and control measures and movement restrictions in response to the outbreaks to prevent further spread of disease; and

• In each region, procedures used for repopulation of affected premises included monitoring to demonstrate that HPAI H5N1 had been eradicated from the premises.

Based on these factors, which are consistent with the OIE's recommendations for reinstatement for trade with a country that has experienced an HPAI H5N1 outbreak,¹ our evaluations conclude that the German Federal Ministry of Consumer Protection, Food and Agriculture and Poland's General Veterinary Inspectorate were able to effectively control and eradicate HPAI H5N1 in their respective domestic poultry populations and that the German and Polish authorities have adequate control measures in place to rapidly identify, control, and eradicate the disease should it be reintroduced into their respective countries in either wild birds or domestic poultry.

¹ OIE (2008). Risk Analysis. In, Terrestrial Animal Health Code, 17th edition. Paris, World Organization for Animal Health: Chapter 2.2 on Import Risk Analysis; Chapter 10.4 on Avian Influenza. To view the document on the Internet, go to http://www.oie.int/eng/normes/mcode/A_summry.htm?e1d11.

We are making the evaluations available for public comment. We will consider all comments that we receive on or before the date listed under the heading DATES at the beginning of this notice.

If, after the close of the comment period, APHIS can identify no additional risk factors that would indicate that domestic poultry in regions of Germany or Poland continue to be affected with HPAI H5N1, we would conclude that the importation of live birds, poultry carcasses, parts of carcasses, and eggs (other than hatching eggs) of poultry, game birds, or other birds from regions of Germany and Poland presents a low risk of introducing HPAI H5N1 into the United States.

For Germany, we expect we would lift the restrictions we imposed in response to the 2006 and 2007 outbreaks and maintain the restrictions we imposed in response to the October 2008 outbreak until the European Commission lifts the restrictions, at which point we would reevaluate the HPAI H5N1 status of the district of Görlitz in Saxony.

The evaluations may be viewed on the Regulations.gov Web site or in our reading room (see ADDRESSES above for a link to Regulations.gov and information on the location and hours of the reading room). You may request paper copies of the evaluations by calling or writing to the person listed under FOR FURTHER INFORMATION CONTACT. Please refer to the titles of the evaluations when requesting copies.

Done in Washington, DC, this 22nd day of December 2008.
Kevin Shea,
Acting Administrator, Animal and Plant Health Inspection Service.

[FR Doc. E8-31210 Filed 12-31-08; 8:45 am]

BILLING CODE 3410-34-P